DEPARTMENT OF LABOR

Employment and Training Administration

Workforce Information Advisory Council

AGENCY: Employment and Training Administration, Labor.

ACTION: Notice of a virtual WIAC meeting June 26 and 27, 2024.

SUMMARY: Notice is hereby given that the Workforce Information Advisory Council (WIAC or Advisory Council) will meet virtually June 26 and 27, 2024. Information for public attendance at the virtual meetings will be posted at www.dol.gov/agencies/eta/wioa/wiac/meetings several days prior to each meeting date. The meetings will be open to the public.

DATES: The meeting will take place June 26 and 27, 2024. The meeting will begin at 12 p.m. EDT and conclude at approximately 2 p.m. EDT on each day. Public statements and requests for special accommodations or to address the Advisory Council must be received by June 17, 2024.

ADDRESSES: Information for public attendance at the virtual meetings will be posted at www.dol.gov/agencies/eta/wioa/wiac/meetings several days prior to each meeting date. If problems arise accessing the meetings, please contact Donald Haughton, Unit Chief in the Division of National Programs, Tools, and Technical Assistance, Employment and Training Administration, U.S. Department of Labor, at 202-693-2784.

FOR FURTHER INFORMATION CONTACT: Steven Rietzke, Chief, Division of National Programs, Tools, and Technical Assistance, Employment and Training Administration, U.S. Department of Labor, Room C-4510, 200 Constitution Ave. NW, Washington, DC 20210; Telephone: 202-693-3912; Email: WIAC@dol.gov. Mr. Rietzke is the WIAC Designated Federal Officer.

SUPPLEMENTARY INFORMATION:

Background: This meeting is being held pursuant to sec. 308 of the Workforce Innovation and Opportunity Act of 2014 (WIOA) (Pub. L. 113-128), which amends sec. 15 of the Wagner-Peyser Act of 1933 (29 U.S.C. 491-2). The WIAC is an important component of WIOA. The WIAC is a Federal advisory committee of workforce and labor market information experts representing a broad range of national, State, and local data and information users and producers. The WIAC was established in accordance with provisions of the Federal Advisory Committee Act (FACA), as amended (5 U.S.C. app.) and will act in accordance with the applicable provisions of FACA and its implementing regulation at 41 CFR 102-3. The purpose of the WIAC is to provide recommendations to the Secretary of Labor (Secretary), working jointly through the Assistant Secretary for Employment and Training and the Commissioner of Labor Statistics, to address: (1) the evaluation and improvement of the nationwide workforce and labor market information (WLMI) system and statewide systems that comprise the nationwide system; and (2) how the Department and the States will cooperate in the management of those systems. These systems include programs to produce employment-related statistics and State and local workforce and labor market information.

The Department of Labor anticipates the WIAC will accomplish its objectives by: (1) studying workforce and labor market information issues; (2) seeking and sharing information on innovative approaches, new technologies, and data to inform employment, skills training, and workforce and economic development decision making and policy; and (3) advising the Secretary on how the workforce and labor market information system can best support workforce development, planning, and program development. Additional information is available at www.dol.gov/agencies/eta/wioa/wiac/meetings.

Purpose: The WIAC is continually identifying and reviewing issues and aspects of the WLMI system and statewide systems that comprise the nationwide system and how the Department and the States will cooperate in the management of those systems. As part of this process, the Advisory Council meets to gather information and to engage in deliberative and planning activities to facilitate the development and provision of its recommendations to the Secretary in a timely manner.

Agenda: The agenda topics for the meeting are: (1) Using data more effectively to advance key policy goals; (2) Identifying opportunities for and overcoming barriers to increased data sharing; (3) Improving access to and presentation of data for customers; and (4) Expanding and improving the currency and relevance of data on skills. Additionally, sub-committees will provide updates on progress toward developing recommendations for the Advisory Council's consideration, and the Advisory Council will discuss agenda items for a fall 2024 meeting. A detailed agenda will be available at www.dol.gov/agencies/eta/wioa/wiac/meetings shortly before the meetings commence.

The Advisory Council will open the floor for public comment at approximately 1:15 p.m. EDT for approximately 10 minutes. However, that time may change at the WIAC chair's discretion.

Attending the meetings: Members of the public who require reasonable accommodations to attend any of the meetings may submit requests for accommodations via email to the email address indicated in the FOR FURTHER INFORMATION CONTACT section with the subject line “June 2024 WIAC Meeting Accommodations” by the date indicated in the DATES section. Please include a specific description of the accommodations requested and phone number or email address where you may be contacted if more information is needed to meet your request.

Public statements: Organizations or members of the public wishing to submit written statements may do so by mailing them to the person and address indicated in the FOR FURTHER INFORMATION CONTACT section by the date indicated in the DATES section or transmitting them as email attachments in PDF format to the email address indicated in the FOR FURTHER INFORMATION CONTACT section with the subject line “June 2024 WIAC Meeting Public Statements” by the date indicated in the DATES section. Submitters may include their name and contact information in a cover letter for mailed statements or in the body of the email for statements transmitted electronically. Relevant statements received before the date indicated in the DATES section will be included in the record of each meeting. No deletions, modifications, or redactions will be made to statements received, as they are public records. Please do not include personally identifiable information in your public statement.

Requests to Address the Advisory Council: Members of the public or representatives of organizations wishing to address the Advisory Council should forward their requests to the contact indicated in the FOR FURTHER INFORMATION CONTACT section, or contact the same by phone, by the date indicated in the DATES section. Oral presentations will be limited to 10 minutes, time permitting, and shall proceed at the discretion of the Advisory Council chair. Individuals with disabilities, or others who need special accommodations, should indicate their needs along with their request.

José Javier Rodríguez,
Assistant Secretary for Employment and Training, Labor.

[FR Doc. 2024-11953 Filed 5-30-24; 8:45 am]

BILLING CODE 4510-FN-P